DEPARTMENT OF COMMERCE

Foreign-Trade Zones Board

[Docket 34-2011]

Foreign-Trade Zone 161—Sedgwick County, KS; Application for Reorganization/Expansion Under Alternative Site Framework

An application has been submitted to the Foreign-Trade Zones (FTZ) Board (the Board) by the Board of County Commissioners of Sedgwick County, grantee of FTZ 161, requesting authority to reorganize and expand the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 17, 2011.

FTZ 161 was approved by the Board on September 8, 1989 (Board Order 438, 54 FR 39558, 09/27/89), and consists of the following sites: Site 1 (279 acres)—Garvey Industrial Park, 5755 South Hoover Road, Wichita; and Site 1A (1.15 acres)—United Warehouse, 901 East 45th Street North, Wichita.

The grantee's proposed service area under the ASF would be Butler, Harvey, McPherson, Reno, Saline, Sedgwick and Sumner Counties, Kansas. If approved, the grantee would be able to serve sites throughout the service area based on companies' needs for FTZ designation. The proposed service area is within and adjacent to the Wichita Customs and Border Protection port of entry.

The applicant is requesting authority to reorganize its existing zone project under the ASF as follows: Modify Site 1 by removing 119 acres due to changed circumstances (new acreage—160 acres); renumber Site 1A to Site 2; and Sites 1 and 2 would become “magnet” sites. The ASF allows for the possible exemption of one magnet site from the “sunset” time limits that generally apply to sites under the ASF, and the applicant proposes that Site 2 be so exempted. The applicant is also requesting approval of the following initial “usage-driven” site: Proposed Site 3 (108.6 acres)—Siemens Energy, Inc., Wind Turbine Nacelle Assembly Facility, 1000 Commerce Street, Hutchinson (Reno County). Because the ASF only pertains to establishing or reorganizing a general-purpose zone, the application would have no impact on FTZ 161's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is July 25, 2011. Rebuttal comments in response to material submitted during the foregoing period may be submitted during the subsequent 15-day period to August 8, 2011.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Camille Evans at Camille.Evans@trade.gov or (202) 482-2350.

Dated: May 18, 2011.
Andrew McGilvray,
Executive Secretary.

[FR Doc. 2011-12790 Filed 5-23-11; 8:45 am]

BILLING CODE P